DEPARTMENT OF COMMERCE

International Trade Administration

Renewable Energy and Energy Efficiency Advisory Committee

AGENCY: International Trade Administration, U.S. Department of Commerce

ACTION: Notice of an open conference call.

SUMMARY: The Renewable Energy and Energy Efficiency Advisory Committee (RE&EEAC) will hold a conference call on Thursday, October 15, 2015 at 2 p.m. The call is open to the public and interested parties are requested to contact the U.S. Department of Commerce in advance to receive dial-in instructions.

DATES: October 15, 2015, from approximately 2:00 p.m. to 3:00 p.m. Daylight Saving Time (DST). Members of the public wishing to participate must notify Andrew Bennett at the contact information below by 5:00 p.m. DST on Wednesday, October 14, 2015, in order to pre-register.

For All Further Information, Please Contact: Andrew Bennett, Office of Energy and Environmental Industries (OEEI), International Trade Administration, U.S. Department of Commerce at (202) 482-5235; email: Andrew.Bennett@trade.gov.

SUPPLEMENTARY INFORMATION:

Background: The Secretary of Commerce established the RE&EEAC pursuant to his discretionary authority and in accordance with the Federal Advisory Committee Act (5 U.S.C. App.) on July 14, 2010. The RE&EEAC was re-chartered on June 12, 2014. The RE&EEAC provides the Secretary of Commerce with consensus advice from the private sector on the development and administration of programs and policies to enhance the international competitiveness of the U.S. renewable energy and energy efficiency industries.

During the October 15th conference call, committee members will consider and potentially approve recommendations and/or input for the Secretary of Commerce.

A limited amount of time before the close of the meeting will be available for pertinent oral comments from members of the public attending the meeting. To accommodate as many speakers as possible, the time for public comments will be limited to two to five minutes per person (depending on the number of public participants). Individuals wishing to reserve additional speaking time during the meeting must contact Mr. Bennett and submit a brief statement of the general nature of the comments, as well as the name and address of the proposed participant by 5:00 p.m. DST on Monday, October 12, 2015. If the number of registrants requesting to make statements is greater than can be reasonably accommodated during the teleconference, the International Trade Administration may conduct a lottery to determine the speakers. Speakers are requested to submit a copy of their oral comments by email to Mr. Bennett for distribution to the participants in advance of the teleconference.

Any member of the public may submit pertinent written comments concerning the RE&EEAC's affairs at any time before or after the meeting. Comments may be submitted to the Renewable Energy and Energy Efficiency Advisory Committee, c/o: Andrew Bennett, Office of Energy and Environmental Industries, U.S. Department of Commerce, Mail Stop: 4053, 1401 Constitution Avenue NW., Washington, DC 20230. All public comments made at REEEAC meetings or submitted to the REEEAC at any time will be distributed to all Committee members and posted on the Committee Web site.

Copies of RE&EEAC meeting minutes will be available within 30 days following the meeting.

Dated: September 29, 2015.
Man Cho,
Acting Director, Office of Energy and Environmental Industries.

[FR Doc. 2015-25189 Filed 10-2-15; 8:45 am]

BILLING CODE 3510-DR-P